DEPARTMENT OF ENERGY

Federal Energy Regulatory Commission

[Docket Nos. EG06-43-000, et al.]

Wind Capital Holdings, LLC, et al.; Electric Rate and Corporate Filings

April 17, 2006.

The following filings have been made with the Commission. The filings are listed in ascending order within each docket classification.

1. Wind Capital Holdings, LLC

[Docket No. EG06-43-000]

Take notice that on April 4, 2006, Wind Capital Holdings, LLC filed with the Commission a Notice of Self Certification of Exempt Wholesale Generator Status pursuant to sections 366.1 and 366.7 of the Commission's regulations.

Comment Date: 5 p.m. eastern time on April 25, 2006.

2. Cow Branch Wind Energy, LLC

[Docket No. EG06-44-000]

Take notice that on April 4, 2006, Cow Branch Wind Energy, LLC filed with the Commission a Notice of Self Certification of Exempt Wholesale Generator Status pursuant to sections 366.1 and 366.7 of the Commission's regulations.

Comment Date: 5 p.m. eastern time on April 25, 2006.

3. OGE Energy Corp.

[Docket No. PH06-41-000]

Take notice that on April 6, 2006, OGE Energy Corp. filed a Petition for Exemption of the Requirements of The Public Utility Holding Company Act of 2005, pursuant to 18 CFR 366.1(c) and 366.3(c) of the Commission's regulations.

Comment Date: 5 p.m. eastern time on April 27, 2006.

4. Scottish Power plc, Scottish Power UK Group Limited, Scottish Power UK Holdings Limited, and PPM Energy, Inc.

[Docket No. PH06-42-000]

Take notice that on April 3, 2006, Scottish Power plc, Scottish Power UK Group Limited, Scottish Power UK Holdings Limited and PPM Energy, Inc. filed a Petition for Exemption of the Requirements of The Public Utility Holding Company Act of 2005, pursuant to 18 CFR 366.3(a) and 366.4(b)(1) of the Commission's regulations.

Comment Date: 5 p.m. eastern time on April 24, 2006.

Standard Paragraph

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E6-6169 Filed 4-24-06; 8:45 am]

BILLING CODE 6717-01-P